DEPARTMENT OF EDUCATION

President's Board of Advisors on Tribal Colleges and Universities; Meeting

AGENCY: President's Board of Advisors on Tribal Colleges and Universities, Department of Education.

What Is the Purpose of This Notice?

The purpose of this notice is to set forth the schedule and agenda of the meeting of the President's Board of Advisors on Tribal Colleges and Universities. Notice of this meeting is required under section 10(a)(2) of the Federal Advisory Committee Act and is intended to notify the public of its opportunity to attend.

When and Where Will the Meeting Take Place?

We will hold the public meeting on Monday, February 5, 2007, from 8:30 a.m. until approximately 5 p.m.; and on Tuesday, February 6, 2007, from 8:30 a.m. until approximately 4:30 p.m., at The Hotel Washington, 15th and Pennsylvania Avenue, NW., Washington, DC 20005. You may call the hotel at (202) 638-5900 to inquire about rooms.

What Assistance Will Be Provided to Individuals With Disabilities?

The meeting site is accessible to individuals with disabilities. If you will need an auxiliary aid or service to participate in the meeting (e.g., interpreting service, assistive listening device, or materials in an alternate format), notify Tonya Ewers at (202) 219-7040, no later than Monday January 29, 2007. Although we will attempt to meet a request received after that date, we may not be able to make available the requested auxiliary aid or service because of insufficient time to arrange it.

Who Is the Contact Person for the Meeting?

Please contact Deborah Cavett, Executive Director, White House Initiative on Tribal Colleges and Universities. You may contact her at the U.S. Department of Education, Room 7010, 1990 K St., NW., Washington, DC 20006, telephone: (202) 219-7040, fax: (202) 219-7086, e-mail: Deborah.Cavett@ed.gov.

Individuals who use a telecommunications device for the deaf (TDD) may call the Federal Information Relay Service at 1-800-877-8339.

What Is the Authority for the Board of Advisors?

The President's Board of Advisors on Tribal Colleges and Universities is established under Executive Order 13270, dated July 2, 2002, and Executive Order 13385, dated September 25, 2005.

What Are the Functions of the National Advisory Committee?

The Board Is Established

• To report to the President annually on the results of the participation of tribal colleges and universities (TCUs) in Federal programs, including recommendations on how to increase the private sector role, including the role of private foundations, in strengthening these institutions, with particular emphasis also given to enhancing institutional planning and development, strengthening fiscal stability and financial management, and improving institutional infrastructure, including the use of technology, to ensure the long-term viability and enhancement of these institutions;

• To advise the President and Secretary of Education (Secretary) on the needs to TCUs in the areas of infrastructure, academic programs, and faculty and institutional development;

• To advise the Secretary in the preparation of a three-year Federal plan for assistance to TCUs in increasing their capacity to participate in Federal programs;

• To provide the President with an annual progress report on enhancing the capacity of TCUs to serve their students; and

• To develop, in consultation with the Department of Education and other Federal agencies, a private sector strategy to assist TCUs.

What Items Will Be on the Agenda for Discussion at the Meeting?

Agenda topics will include the final 2005 draft report to the President, the agencies' three-year plans, and establish the 2007 action agenda as the Board pursues opportunities to strengthen capacity of programs at the tribal colleges and universities.

How Do I Request To Present Comments at the Meeting?

An opportunity for public comments is available on Tuesday, February 6, 2007 between 3:15-4:15 p.m. Comments will be limited to ten (10) minutes for those speakers who sign up to speak. Those members of the public interested in submitting written comments may do so at the address indicated above by Monday, January 29, 2007.

How May I Obtain Access to the Records of the Meeting?

Records are kept of all Board proceedings and are available for public inspection at the Office of the White House Initiative on Tribal Colleges and Universities, U.S. Department of Education, 1990 K Street, NW., Washington, DC 20006, during the hours of 8 a.m. to 5 p.m.

How May I Obtain Electronic Access to This Document?

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/index.html.

Authority: 5 U.S.C. Appendix 2.

Dated: January 17, 2007.
James F. Manning,
Acting Assistant Secretary for Postsecondary Education.

[FR Doc. E7-876 Filed 1-22-07; 8:45 am]

BILLING CODE 4000-01-P